DEPARTMENT OF COMMERCE

National Oceanic and Atmospheric Administration

[I.D. 032603B]

Small Takes of Marine Mammals Incidental to Specified Activities; Taking of California Sea Lions, Pacific Harbor Seals and Northern Elephant Seals Incidental to Research Surveys at San Nicolas Island, Ventura County, CA

AGENCY: National Marine Fisheries Service (NMFS), National Oceanic and Atmospheric Administration (NOAA), Commerce.

ACTION: Notice of receipt of application and proposed authorization for a small take exemption; request for comments.

SUMMARY: NMFS has received an application from Glenn R. VanBlaricom for an Incidental Harassment Authorization (IHA) to take small numbers of marine mammals, by harassment, incidental to the assessment of black abalone populations at San Nicolas Island (SNI), CA. Under the Marine Mammal Protection Act (MMPA), NMFS is requesting comments on its proposal to issue a small take authorization to Dr. VanBlaricom for 1 year, renewable upon request on an annual basis.

DATES: Comments and information must be received no later than July 25, 2003.

ADDRESSES: Comments on the application should be addressed to Chief, Marine Mammal Conservation Division, Office of Protected Resources, National Marine Fisheries Service, 1315 East-West Highway, Silver Spring, MD 20910-3225. A copy of the application may be obtained by writing to this address or by telephoning one of the contacts listed here. Comments cannot be accepted if submitted via e-mail or the Internet.

FOR FURTHER INFORMATION CONTACT: Sarah Hagedorn, Office of Protected Resources, NMFS, (301) 713-2322, ext 117; or Christina Fahy, Southwest Regional Office, NMFS, (562) 980-4023.

SUPPLEMENTARY INFORMATION:

Background

Sections 101(a)(5)(A) and (D) of the MMPA (16 U.S.C. 1361 et seq.) direct the Secretary of Commerce to allow, upon request, the incidental, but not intentional, taking of marine mammals by U.S. citizens who engage in a specified activity (other than commercial fishing) within a specified geographical region if certain findings are made and either regulations are issued or, if the taking is limited to harassment, a notice of a proposed authorization is provided to the public for review.

Permission may be granted if NMFS finds that the taking will have a negligible impact on the species or stock(s) and will not have an unmitigable adverse impact on the availability of the species or stock(s) for subsistence uses and that the permissible methods of taking and requirements pertaining to the monitoring and reporting of such takings are set forth. NMFS has defined “negligible impact” in 50 CFR 216.103 as “...an impact resulting from the specified activity that cannot be reasonably expected to, and is not reasonably likely to, adversely affect the species or stock through effects on annual rates of recruitment or survival.”

Subsection 101(a)(5)(D) of the MMPA established an expedited process by which citizens of the United States can apply for an authorization to incidentally take small numbers of marine mammals by harassment. Under Section 3(18)(A), the MMPA defines “harassment” as:

...any act of pursuit, torment, or annoyance which (i) has the potential to injure a marine mammal or marine mammal stock in the wild; or (ii) has the potential to disturb a marine mammal or marine mammal stock in the wild by causing disruption of behavioral patterns, including, but not limited to, migration, breathing, nursing, breeding, feeding, or sheltering.

The term “Level A harassment” means harassment described in subparagraph (A)(i). The term “Level B harassment” means harassment described in subparagraph (A)(ii).

Subsection 101(a)(5)(D) establishes a 45-day time limit for NMFS review of an application followed by a 30-day public notice and comment period on any proposed authorizations for the incidental harassment of small numbers of marine mammals. Within 45 days of the close of the comment period, NMFS must either issue or deny issuance of the authorization.

Summary of Request

On January 9, 2003, NMFS received a letter from Glenn R. VanBlaricom, Ph.D., Washington Cooperative Fish and Wildlife Research Unit, requesting an IHA for the possible harassment of small numbers of California sea lions (Zalophus californianus), Pacific harbor seals (Phoca vitulina), and northern elephant seals (Mirounga angustirostris) incidental to research surveys performed for the purpose of assessing trends over time in black abalone populations at permanent study sites.

Population trend data for black abalone populations are important and needed for several reasons. First, the reintroduction of sea otters to SNI since 1987 raises the possibility of conflict between sea otter conservation and abalone populations because abalones are often significant prey for sea otters. Second, the appearance of a novel exotic disease, abalone withering syndrome, at SNI in 1992, has resulted in dramatically increased rates of abalone mortality at the island. Third, California populations of black abalones have been recently designated as a candidate species for listing pursuant to the Endangered Species Act of 1973 (ESA) (as amended). The concern is that the combined effects of sea otter predation and abalone withering syndrome, following several decades during which black abalones may have been over-harvested in commercial and recreational fisheries, may cause reduction of black abalone populations to the point where risk of extinction increases. Long-term abalone population trend data from SNI is needed to determine if drastic population declines continue, and if extinction risk becomes high.

Project Description

Nine permanent research study areas are located in rocky intertidal habitats on SNI in Ventura County, CA. To date, the applicant has made 89 separate field trips to SNI from September 1979 through September 2002, participating in abalone survey work on 472 different days. Quantitative abalone surveys on SNI began in 1981, at which point permanent research sites were chosen based on the presence of dense patches of abalones in order to monitor changes over time in dense abalone aggregations. Research is conducted by counting black abalones in plots of 3.28 ft (metric) along permanent transect lines in rocky intertidal habitats at each of the nine study sites on the island. Study areas include two to six permanent transects, depending on size of the area and the number and size of abalone patches present. Permanent transect lines are demarcated by stainless steel eyebolts that have been embedded in the rock substrata and secured with marine epoxy compound. Data are collected by temporarily attaching a rope, marked at intervals of 3.28 ft (metric), to the eyebolts with snap-shackles. Transect lengths at the nine study sites range from 23 - 131 ft (metric). Ropes are removed when data collection is finished, and only the permanent eyebolts are left at the sites between visits. Survey work is done by two field biologists working on foot; therefore, monitoring of black abalone populations at SNI can be done only during periods of extreme low tides. The exact date of a visit to any given site is difficult to predict because variation in surf height and sea conditions can influence the safety of field biologists as well as the quality of data collected. In previous years because of optimal availability of low tides, most survey work has been done during the months of January, February, March, July, November, and December. All work is done only during daylight hours because of safety considerations.

Research is expected to extend over a period of 5 years, from 2003 through 2007. Surveys of abalones will be conducted each year during this 5-year period. During each survey year, each of the nine permanent study sites at SNI will be visited twice. Each visit to a given study site lasts for a maximum of 4 hours, after which the site is vacated by researchers.

Variable numbers of sea lions, harbor seals, and elephant seals typically haul out near six of the nine study sites used for abalone research. Breeding activity of these three pinniped species occurs at five of these six sites. Subject marine mammal populations, especially California sea lions and northern elephant seals, at SNI have grown substantially since the beginning of abalone research in 1979, and have occupied an expanded distribution on the island associated with population growth. Thus, sites previously accessible with no risk of marine mammal harassment are now being utilized by marine mammals at levels that will make approach without harassment on future dates very difficult. Pinnipeds likely to be affected by abalone research activity are those that are hauled out on land near study sites. Three sites not previously delineated do not have resident pinniped populations, and can be visited without any risk of marine mammal harassment. However, during the most recent abalone surveys, it has become evident that additional research work cannot be conducted at six other sites without the possibility of Level B incidental harassment of pinniped populations hauled out near the study locations; therefore, an IHA is warranted.

Description of Habitat and Marine Mammals Affected by the Activity

A description of SNI and its associated marine mammals can be found in Dr. VanBlaricom's application, which is available upon request (see ADDRESSES).

Marine Mammal Impacts

Many of the beaches in the Channel Islands provide resting, molting or breeding places for species of pinnipeds including: northern elephant seals, harbor seals, California sea lions, northern fur seals (Callorhinus ursinus), and Steller sea lions (Eumetopias jubatus). On SNI, three of these species, northern elephant seals, harbor seals, and California sea lions, can be expected to occur on land in the vicinity of abalone research sites either regularly or in large numbers during certain times of the year. In addition, a single adult male Guadalupe fur seal was seen at one abalone research site on two occasions during the summer months in the mid-1980's; however, there have been no sightings of this species on the island since then. Descriptions of the biology and distribution of these species and others in the region can be found in Stewart and Yochem (2000, 1994), Sydeman and Allen (1999), Barlow et al. (1993), Lowry et al. (1996), Schwartz (1994), Lowry (1999) and several other documents (Barlow et al., 1997; NMFS, 2000; NMFS, 1992; Koski et al., 1998; Gallo-Reynoso, 1994; Stewart et al., 1987). Please refer to those documents and the application for further information on these species. Other information on harbor seals and California sea lions found in Central California waters can be found in Marine Mammal Stock Assessment Reports, which are available online at http://www.nmfs.noaa.gov/prot_res/PR2/Stock_Assessment_Program/individual_sars.html.

The applicant requests authorization for incidental takes, by Level B harassment only, of California sea lions, Pacific harbor seals, and northern elephant seals. Individuals from these three species typically haul out near six of the nine study sites, and breeding activity occurs at five of these six sites. Although marine mammals will not be deliberately approached by abalone survey personnel, approach may be unavoidable if pinnipeds are hauled out directly upon the permanent abalone study plots. Incidental harassment may result if hauled animals move to increase their distance from persons involved in abalone surveys. In almost all cases, shoreline habitats near the abalone study sites are gently sloping sandy beaches or horizontal sandstone platforms with unimpeded and non-hazardous access to the water. If disturbed, hauled animals may move toward the water without risk of encountering significant hazards. In these circumstances, the risk of serious injury or death to hauled animals is very low.

One exception to the low risk of marine mammal injury or mortality associated with abalone research would be if disturbances occur during breeding season, as it is possible that mothers and dependent pups may become separated. If separated pairs don't reunite fairly quickly, risks of mortality to pups may increase. Also, adult northern elephant seals may trample elephant seal pups if disturbed. Trampling increases the risk of injury or death to the pups.

However, because of mitigation measures proposed, the applicant expects that only Level B incidental harassment may occur associated with the proposed continuation of black abalone research at SNI and that this research will result in no detectable impact on these marine mammal species or stocks or on their habitats. There is no anticipated impact of the research activity on the availability of the species or stocks for subsistence uses because there is no subsistence harvest of marine mammals in California.

Based on past observations made by the applicant at SNI in 2001 and 2002, the maximum number of California sea lions likely to be present in immediate proximity to all nine abalone survey study areas combined during periods of visitation by researchers may total up to 7,515 animals. For Pacific harbor seals the total maximum likely number that could be found at all research sites combined could be 120, and for northern elephant seals the number could be as many as 305. The distribution of pinnipeds hauled out on beaches is not even. The number of marine mammals disturbed will vary by month and location, and, compared to animals hauled out on the beach farther away from survey activity, only those animals hauled out closest to the actual survey transect plots contained within each research site are likely to be disturbed by the presence of researchers and alter their behavior or attempt to move out of the way.

Mitigation

Several mitigation measures to reduce the potential for harassment from population assessment research surveys will be implemented as part of the SNI abalone research activities. Primarily, mitigation of the risk of disturbance to pinnipeds simply requires that researchers are judicious in the route of approach to abalone study sites, avoiding close contact with pinnipeds hauled out on shore. In no case will marine mammals be deliberately approached by abalone researchers, and in all cases every possible measure will be taken to select a pathway of approach to study sites that minimizes the number of marine mammals harassed. Each visit to a given study site will last for a maximum of 4 hours, after which the site is vacated and can be reoccupied by any hauled marine mammals that were disturbed by the presence of abalone researchers.

Both increased risk of injury or mortality possibilities will be mitigated with measures required under the proposed authorization. Disturbances to females with dependent pups (in the cases of California sea lions and Pacific harbor seals) can be mitigated to the greatest extent practicable by avoiding visits to those black abalone study sites with resident pinnipeds during periods of breeding and lactation from February through October. Thus, the months of November, December, and January are preferable for abalone survey work in order to minimize the risk of incidental harassment. During these periods of time, abalone research activities can be confined to black abalone sites where pinniped breeding and post-partum nursing does not occur. This mitigation measure will reduce the possibility of incidental harassment takes and eliminate the potential for serious injury or mortality of dependent California sea lion pups and Pacific harbor seal pups.

Northern elephant seal pups are present at five study sites during winter months, but all age and sex categories of this species can be avoided without harassment. Risks of trampling of elephant seal pups by adults are limited to the period from January through March when pups are born, nursed, and weaned, ending about 30 days post-weaning when pups depart land for foraging areas at sea. However, elephant seals have a much higher tolerance of nearby human activity than sea lions or harbor seals. Possible takes of northern elephant seal pups will be minimized by avoiding the immediate proximity of hauled seals and any seal pups during approach to the study sites, and during collection of abalone population data while at the study site.

One individual Guadalupe fur seal has been seen at study site 8 on two separate occasions during the summer months in the mid-1980's. No animals of this threatened species have been seen during abalone research work since then. Thus, limitation of research visits to site 8 to the period November through January eliminates the potential for taking of Guadalupe fur seals by harassment. Guadalupe fur seals are distinctive in appearance and behavior, and can be readily identified at a distance without any disturbance. Although no Guadalupe fur seals are expected to be onshore, possible harassment of Guadalupe fur seals will be avoided by the suspension of research activities as well as the avoidance of any study area in which Guadalupe fur seals are seen and sites occupied by Guadalupe fur seals will be vacated immediately. Therefore, an authorization for the taking of Guadalupe fur seals by harassment is neither required nor requested.

Monitoring

Currently, all biological research activities at SNI are subject to approval and regulation by the Environmental Planning and Management Department (EPMD), US Navy. The US Navy owns SNI and closely regulates all civilian access to and activity on the island, including biological research. Therefore, monitoring activities will be closely coordinated with Navy marine mammal biologists located on SNI.

In addition, status and trends of pinniped aggregations at SNI are monitored by the NMFS Southwest Fisheries Science Center. Also, ongoing long-term studies of pinniped population dynamics, migratory and foraging behavior, and foraging ecology at SNI are conducted by staff at Hubbs-Sea World Research Institute (HSWRI).

In general, monitoring requirements in relation to Dr. VanBlaricom's abalone research surveys will include observations made by the applicant and his associates. Observations of unusual behaviors, numbers, or distributions of pinnipeds on SNI will be reported to EPMD, NMFS, and HSWRI so that any potential follow-up observations can be conducted by the appropriate personnel. In addition, observations of tag-bearing pinniped carcasses as well as any rare or unusual species of marine mammals will be reported to EPMD, allowing transmittal of this information to appropriate agencies and personnel.

Reporting

A draft final report must be submitted to NMFS within 60 days after the conclusion of the year-long field season. A final report must be submitted to the Regional Administrator within 30 days after receiving comments from NMFS on the draft final report. If no comments are received from NMFS, the draft final report will be considered to be the final report.

Endangered Species Act

Although Dr. VanBlaricom has not requested the incidental take of any listed marine mammal species and, preliminarily, NMFS does not expect any listed species to be affected by his research activities, NMFS will continue to review this action and will decide on whether consultation on the issuance of an IHA under section 101(a)(5)(D) of the MMPA is necessary prior to making a final decision.

National Environmental Policy Act

In accordance with section 6.01 of the NOAA Administrative Order 216-6 (Environmental Review Procedures for Implementing the National Environmental Policy Act, May 20, 1999), NMFS has determined, based on a programmatic NEPA assessment conducted on the impact of NMFS' rulemaking for the issuance of IHAs (61 FR 15884; April 10, 1996) and the content and analysis of Dr. VanBlaricom's request for an IHA, that the proposed issuance of this IHA to Dr. VanBlaricom by NMFS will not individually or cumulatively result in a significant impact on the quality of the human environment as defined in 40 CFR 1508.27. Therefore, the action of issuing an IHA for these activities meets the definition of a “Categorical Exclusion” and is exempted from further environmental review.

Preliminary Conclusions

NMFS has preliminarily determined that the short-term impact of abalone research, as described in this document and in the application for an IHA, should result, at worst, in the temporary modification in behavior by California sea lions, Pacific harbor seals and northern elephant seals. Dr. VanBlaricom believes the effects of abalone research surveys on SNI are expected to be limited to short term and localized changes in behavior involving relatively small numbers of pinnipeds. While behavioral modifications, including temporarily vacating onshore haulouts, may be made by these species to avoid the presence and nearness of abalone researchers, this action is expected to have a negligible impact on the animals. In addition, no take by injury and/or death is anticipated, and harassment takes will be at the lowest level practicable due to incorporation of the mitigation measures mentioned previously in this document.

Proposed Authorization

NMFS proposes to issue an IHA to Dr. Glenn R. VanBlaricom for the potential harassment of small numbers of Pacific harbor seals, California sea lions and Northern elephant seals incidental to abalone population trend research, provided the previously mentioned mitigation, monitoring, and reporting requirements are incorporated. NMFS has preliminarily determined that the proposed activity would result in the harassment of small numbers of Pacific harbor seals, California sea lions and northern elephant seals and will have no more than a negligible impact on these marine mammal stocks.

Information Solicited

NMFS requests interested persons to submit comments, information, and suggestions concerning this request (see ADDRESSES).

Dated: June 18, 2003.
Laurie K. Allen,
Acting Director, Office of Protected Resources, National Marine Fisheries Service.

[FR Doc. 03-16086 Filed 6-24-03; 8:45 am]

BILLING CODE 3510-22-S